DEPARTMENT OF TRANSPORTATION

Office of the Secretary of Transportation

49 CFR Part 1

[OST Docket No. OST 1999-6189]

RIN 9991-AA26

Organization and Delegation of Powers and Duties; Delegation to the Federal Highway Administrator

AGENCY: Office of the Secretary, U.S. DOT.

ACTION: Final rule.

SUMMARY: In this action, the Secretary of Transportation delegates to the Federal Highway Administrator limited authority to determine a Federal share of the costs, other than 80 percent, for Federal Highway Administration (FHWA) transportation research projects or activities that are funded under section 5001 of the Transportation Equity Act for the 21st Century (TEA-21). The Federal Highway Administrator is delegated this authority only with respect to the use of section 5001(b) funds for FHWA projects and activities, and exercises no authority with regard to cost share determinations with respect to projects or activities administered by the other U.S. Department of Transportation operating administrations. This delegation of authority is necessary because the Federal Highway Administration has the expertise and staff to administer the Highway Research Program and to make funding decisions in accordance with the statutory requirements. The Federal Highway Administrator may further redelegate this authority.

EFFECTIVE DATE: This rule is effective August 12, 2002.

FOR FURTHER INFORMATION CONTACT: Wilbert Baccus, Office of the Chief Counsel (HCC-40), Federal Highway Administration, 400 Seventh Street, SW., Washington, DC 20590. Telephone: (202) 366-0780.

SUPPLEMENTARY INFORMATION:

Electronic Access

You can view and download this document by going to the web page of the Department's Docket Management System (http://dms.dot.gov). On that page, click on “search.” On the next page, type in the last four digits of the docket number that appears in the heading of this document. Then click on “search.” An electronic copy of this document may also be downloaded from the Government Printing Office's Electronic Bulletin Board Service at (202) 512-1661 by using a computer, modem, and suitable communications software. Internet users may also reach the Office of the Federal Register's home page at: http://www.nara.gov/fedreg and the Government Printing Office's web page at: http://www.access.gpo.gov/nara.

Background

Section 5001 of the Transportation Equity Act for the 21st Century (TEA-21), Public Law 105-178, 112 Stat. 107, 419, Authorizations and Appropriations, provides funding for transportation research authorized to be appropriated out of the Highway Trust Fund. Subsection 5001(a) provides for sums that are authorized be appropriated for seven categories of transportation research and subsection 5001(b) provides that these funds shall be available for obligation in the same manner as if such funds were apportioned under chapter 1 of title 23, United States Code. Subsection 5001(b) also states that the Federal share of the cost of the project or activity carried out using these funds shall be 80 percent, unless otherwise expressly provided in title 5 of the TEA-21 or otherwise determined by the Secretary with respect to a project or activity.

In this action, the Secretary delegates to the Federal Highway Administrator the authority to determine a Federal share of the costs, other than 80 percent, for FHWA transportation research projects or activities that are funded under section 5001 of TEA-21. The Federal Highway Administrator is delegated this authority only with respect to the use of section 5001(b) funds for FHWA projects and activities, and exercises no authority with regard to cost share determinations with respect to projects or activities administered by the other U.S. Department of Transportation operating administrations. The reason for the delegation is that the FHWA has the expertise and staff to carry out these programs and make funding decisions according to the statutory requirements. The FHWA's Office of Acquisition Management approves the cooperative agreements to which this cost sharing provision applies. Additionally, the FHWA works with the smaller entities, such as not-for-profit organizations and universities, on a regular basis and is familiar with which organizations have the ability to cost share and which ones do not.

Notice and Comment Exemption

Since this rule relates to Departmental organization, procedure, and practice, notice and comment are unnecessary under 5 U.S.C. 553(b).

Justification for Immediate Adoption

Certain programs and activities are to be conducted over the course of a given fiscal year, and this delegation of authority assists the FHWA in ensuring the use of those funds during that year for transportation research. This amendment enhances the FHWA's ability to meet statutory deadlines in order that funds do not lapse. Since the rule expedites the Federal Highway Administration's ability to administer the Highway Research Program, the Secretary finds good cause under 5 U.S.C. 553(d)(3) for the final rule to be effective on the date of publication in the Federal Register.

List of Subjects in 49 CFR Part 1

Authority delegations (Government agencies), Organization and functions (Government agencies).

For the reasons set forth in the preamble, the Office of the Secretary of Transportation amends 49 CFR part 1 as follows:

PART 1—[AMENDED]

1. The authority citation for part 1 continues to read as follows:

Authority: 49 U.S.C. 322; 46 U.S.C. 2104(a); 28 U.S.C. 2672; 31 U.S.C. 3711(a)(2); Pub. L. 101-552, 104 Stat. 2736; Pub. L. 106-159, 113 Stat. 1748.

2. In § 1.48, add paragraph (oo) to read as follows:

§ 1.48 Delegations to Federal Highway Administrator.

* * * * *

(oo) Exercise the authority vested in the Secretary by subsection 5001(b) of the Transportation Equity Act for the 21st Century (TEA-21), Public Law 105-178, 112 Stat. 107, 420, titled Applicability of Title 23, United States Code to determine a Federal share of the costs, other than 80 percent, for a transportation research project or activity administered by the FHWA that is funded under section 5001 of TEA-21. This authority may be redelegated.

Issued on this 29th day of July, 2002.
Norman Y. Mineta,
Secretary, U.S. Department of Transportation.

[FR Doc. 02-20000 Filed 8-9-02; 8:45 am]

BILLING CODE 4910-62-P